DEPARTMENT OF COMMERCE

International Trade Administration

[A-552-841]

Crystalline Silicon Photovoltaic Cells, Whether or Not Assembled Into Modules, From the Socialist Republic of Vietnam: Amended Preliminary Determination of Less-Than-Fair-Value Investigation

AGENCY: Enforcement and Compliance, International Trade Administration, Department of Commerce.

SUMMARY: The U.S. Department of Commerce (Commerce) is amending its preliminary affirmative determination in the less-than-fair-value (LTFV) investigation of crystalline silicon photovoltaic cells, whether or not assembled into modules (solar cells) from the Socialist Republic of Vietnam (Vietnam) to correct for a significant ministerial error. The period of investigation (POI) is October 1, 2023, through March 31, 2024.

DATES: Applicable January 2, 2025.

FOR FURTHER INFORMATION CONTACT: Laurel LaCivita or Deborah Cohen, AD/CVD Operations, Office III, Enforcement and Compliance, International Trade Administration, U.S. Department of Commerce, 1401 Constitution Avenue NW, Washington, DC 20230; telephone: (202) 482-4243 or (202) 482-4521, respectively.

SUPPLEMENTARY INFORMATION:

Background

On December 4, 2024, Commerce published in the Federal Register its preliminary affirmative determination in the LTFV investigation of solar cells from Vietnam.¹ On December 9, 2024, the American Alliance for Solar Manufacturing Trade Committee, a coalition of domestic producers of solar cells and modules (collectively, the petitioner), timely alleged that Commerce made a significant ministerial error in calculating Jinko Solar (Vietnam) Industries Co., Ltd.'s (Jinko) estimated weighted-average dumping margin.²

¹ See Crystalline Silicon Photovoltaic Cells, Whether or Not Assembled Into Modules from the Socialist Republic of Vietnam: Preliminary Affirmative Determination of Sales at Less Than Fair Value, Preliminary Affirmative Determination of Critical Circumstances, in Part, and Postponement of Final Determination and Extension of Provisional Measures, 89 FR 96219 (December 4, 2024) (Preliminary Determination), and accompanying Preliminary Decision Memorandum.

² See Petitioner's Letter, “Ministerial Error Allegation,” dated December 9, 2024.

Scope of the Investigation

The products covered by this investigation are solar cells from Vietnam. For a complete description of the scope of this investigation, see the Preliminary Determination.

Legal Framework

A ministerial error is defined as including “errors in addition, subtraction, or other arithmetic function, clerical error resulting from inaccurate copying, duplication, or the like, and any other similar type of unintentional error which {Commerce} considers ministerial.” ³ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁴ Pursuant to 19 CFR 351.224(e), Commerce “will analyze any comments received and, if appropriate, correct any significant ministerial error by amending the preliminary determination.”

³ See section 735(e) of the Tariff Act of 1930, as amended (the Act); see also 19 CFR 351.224(f).

⁴ See 19 CFR 351.224(g).

Analysis of Significant Ministerial Error

In the Preliminary Determination, Commerce made a significant ministerial error within the meaning of section 735(e) of the Act and 19 CFR 351.224(f) and (g)(1) in calculating the estimated weighted-average dumping margin for Jinko. Accordingly, pursuant to 19 CFR 351.224(e), Commerce is amending its Preliminary Determination to correct for this significant ministerial error by revising the weighted-average dumping margins for Jinko and the non-individually examined separate rate companies. For a detailed discussion of the alleged ministerial error, as well as Commerce's analysis, see the Ministerial Error Memorandum.⁵

⁵ See Memorandum, “Less-Than-Fair-Value Investigation of Crystalline Silicon Photovoltaic Cells, Whether or Not Assembled into Modules, from the Socialist Republic of Vietnam: Ministerial Error Allegation Regarding the Preliminary Determination,” dated concurrently with this notice (Ministerial Error Memorandum), at 2-3.

Amended Preliminary Determination

As a result of correcting the significant ministerial error, Commerce determines the following estimated weighted-average dumping margins exist:

⁶ Commerce assigned Boviet Solar Technology Co., Ltd. a de minimis rate in the parallel countervailing duty investigation, and therefore, no subsidy offset was provided to Boviet in the LTFV investigation.

Producer | Exporter | Estimated weighted-average dumping margin (percent) | Cash deposit rate (adjusted for subsidy offsets) (percent)
Jinko Solar (Vietnam) Industries Company Limited | Jinko Solar (Vietnam) Industries Company Limited | 71.85 | 71.74
Blue Moon Vina Co | Blue Moon Vina Co | 60.02 | 59.91
Boviet Solar Technology Co., Ltd | Boviet Solar Technology Co., Ltd | 60.02 | ⁶ 60.02
Elite Solar Technology (Vietnam) Company Limited | Elite SNG | 60.02 | 59.91
Letsolar Vietnam Company Limited | Letsolar Vietnam Company Limited | 60.02 | 59.91
Mecen Solar Vina Co., Ltd | Mecen Solar Vina Co., Ltd | 60.02 | 59.91
Nexuns Vietnam Company Limited | Nexuns Vietnam Company Limited | 60.02 | 59.91
Trina Solar Energy Development Company Ltd | Trina Solar Energy Development Company Ltd | 60.02 | 59.91
Vietnergy Co., Ltd. and Tainergy Tech Co., Ltd. (collectively, Vietnergy) | Vietnergy Co., Ltd. and Tainergy Tech Co., Ltd. (collectively, Vietnergy) | 60.02 | 59.91
Vietnam Sunergy Joint Stock Company (f.k.a. Vietnam Sunergy Company Limited) | Vietnam Sunergy Joint Stock Company (f.k.a. Vietnam Sunergy Company Limited) | 60.02 | 59.91

Disclosure

We intend to disclose the calculations performed for this amended preliminary determination to parties within five days after public announcement or, if there is no public announcement, within five days of the date of publication of this notice, in accordance with 19 CFR 351.224(b).

Amended Cash Deposits and Suspension of Liquidation

The collection of cash deposits and suspension of liquidation will be revised according to the rates calculated in this amended preliminary determination, in accordance with section 733(d) of the Act. Because this amended preliminary determination results in an increased cash deposit rate, this rate will be effective on the date of publication of this notice in the Federal Register. These suspension of liquidation instructions will remain in effect until further notice.

U.S. International Trade Commission (ITC) Notification

In accordance with section 733(f) of the Act, Commerce will notify the ITC of our amended preliminary determination.

Notification to Interested Parties

This amended preliminary determination is issued and published in accordance with sections 733(d) and 777(i) of the Act, and 19 CFR 351.224(e).

Dated: December 23, 2024.
Abdelali Elouaradia,
Deputy Assistant Secretary for Enforcement and Compliance.

[FR Doc. 2024-31449 Filed 12-31-24; 8:45 am]

BILLING CODE 3510-DS-P